DEPARTMENT OF TRANSPORTATION

Federal Aviation Administration

14 CFR Part 39

[Docket No. FAA-2013-0643; Directorate Identifier 2012-SW-096-AD; Amendment 39-17773; AD 2014-04-14]

RIN 2120-AA64

Airworthiness Directives; Agusta S.p.A. Helicopters (Type Certificate Currently Held by AgustaWestland S.p.A) (AgustaWestland)

AGENCY: Federal Aviation Administration (FAA), DOT.

ACTION: Final rule.

SUMMARY: We are adopting a new airworthiness directive (AD) for AgustaWestland Model A109S, AW109SP, A119, and AW119 MKII helicopters to require removing certain rod end assemblies from service. This AD was prompted by reports of fractures on the rod end assemblies that could damage the main rotor assembly and lead to loss of control of the helicopter.

DATES: This AD is effective April 7, 2014.

ADDRESSES: For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Discussion

On July 23, 2013, at 78 FR 44042, the Federal Register published our notice of proposed rulemaking (NPRM), which proposed to amend 14 CFR part 39 by adding an AD that would apply to AgustaWestland Model A109S, AW109SP, A119, and AW119 MKII helicopters with a main rotor lag damper assembly, part number (P/N) 109-0112-39-103, 109-0112-39-105, 109-0112-05-105, or 109-0112-05-107, installed with a rod end assembly, P/N M004-01H007-041 or M004-01H007-045, with a serial number (S/N) 84 through 132, or 4964 through 5011. The NPRM proposed to require removing certain rod end assemblies from service. The proposed requirements were intended to prevent damage to the main rotor assembly and subsequent loss of control of the helicopter.

The NPRM was prompted by AD No. 2012-0208, dated October 5, 2012, issued by the European Aviation Safety Agency (EASA), which is the Technical Agent for the Member States of the European Union. AD No. 2012-0208 requires correcting an unsafe condition for AgustaWestland Model A109LUH, A109S, AW109SP, A119, and AW119 MKII helicopters. EASA advises that cases of in-flight fractures of rod end assembly, P/N M004-01H007-045, installed on main rotor lag dampers have been reported on Model A109LUH and AW109SP helicopters. An investigation revealed that two batches of rod end assemblies, P/N M004-01H007-041 and M004-01H007-045, could have cracks, according to EASA. EASA states that this condition, if not corrected, could lead to main rotor damage, possibly resulting in loss of control of the helicopter.

Comments

We gave the public the opportunity to participate in developing this AD, but we received no comments on the NPRM (78 FR 44042, July 23, 2013).

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

EASA requires compliance with the inspection and removal of any affected parts from service within 25 hours flight hours or three months. We require removing the affected parts from service within 25 hours time-in-service. The EASA AD applies to AgustaWestland Model A109LUH, and this AD does not because that model has no U.S. type certificate.

Related Service Information

AgustaWestland issued Bollettino Tecnico (BT) No. 109S-49 for Model A109S helicopters, BT No. 109SP-052 for Model AW109SP helicopters, and BT No. 119-50 for Model A119 and AW119 MKII helicopters. All of the BTs are dated October 3, 2012. The BTs specify a one-time inspection of each rod end assembly, P/Ns M004-01H007-041 and M004-01H007-045, to determine its serial number. The BTs then require removal from service of certain serial-numbered rod end assemblies because fractures had been reported on rod ends in these batches. According to the BTs, no one was injured in the helicopters, and no helicopters were damaged because of these fractures.

Costs of Compliance

We estimate that this AD affects 91 helicopters of U.S. Registry and that labor costs average $85 a work-hour. Based on these estimates, we expect the following costs:

• Replacing a rod end assembly requires 1.5 work-hours for a labor cost of $128. Parts cost $3,918 for a total cost of $4,046 per helicopter, $368,186 for the U.S. fleet.

According to the manufacturer's service information, costs of this AD may be covered under warranty, thereby reducing the cost impact on affected individuals. We do not control warranty coverage by manufacturers. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-04-14 Agusta S.p.A. Helicopters (Type Certificate Currently Held by AgustaWestland S.p.A) (AgustaWestland): Amendment 39-17773; Docket No. FAA-2013-0643; Directorate Identifier 2012-SW-096-AD.

(a) Applicability

This AD applies to AgustaWestland Model A109S, AW109SP, A119, and AW119 MKII helicopters with a main rotor lag damper assembly (lag damper), part number (P/N) 109-0112-39-103, 109-0112-39-105, 109-0112-05-105, or 109-0112-05-107, installed with a rod end assembly, P/N M004-01H007-041 or M004-01H007-045, with a serial number (S/N) 84 through 132, or 4964 through 5011, certificated in any category.

(b) Unsafe Condition

This AD defines the unsafe condition as a crack in a rod end assembly, which could result in fracture of the rod end assembly, damage to the main rotor, and subsequent loss of control of the helicopter.

(c) Effective Date

This AD becomes effective April 7, 2014.

(d) Compliance

You are responsible for performing each action required by this AD within the specified compliance time unless it has already been accomplished prior to that time.

(e) Required Actions

(1) Within 25 hours time-in-service, remove the rod end assembly from service.

(2) Do not install a rod end assembly, P/N M004-01H007-041 or M004-01H007-045, with a S/N 84 through 132 or 4964 through 5011, on any helicopter.

(f) Special Flight Permits

Special flight permits are prohibited.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) AgustaWestland Bollettino Tecnico No. 109S-49, No. 109SP-052, and No. 119-50, all dated October 3, 2012, which are not incorporated by reference, contain additional information about the subject of this AD. For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 2601 Meacham Blvd., Room 663, Fort Worth, Texas 76137.

(2) The subject of this AD is addressed in European Aviation Safety Agency (EASA) AD No. 2012-0208, dated October 5, 2012. You may view the EASA AD on the Internet at http://www.regulations.gov in Docket No. FAA-2013-0643.

(h) Subject

Joint Aircraft Service Component (JASC) Code: 6200, Main Rotor System.

Issued in Fort Worth, Texas, on February 20, 2014.
Lance T. Gant,
Acting Directorate Manager, Rotorcraft Directorate, Aircraft Certification Service.

[FR Doc. 2014-04310 Filed 2-28-14; 8:45 am]

BILLING CODE 4910-13-P